DEPARTMENT OF TRANSPORTATION

Federal Railroad Administration

Draft Programmatic Environmental Impact Statement for the Maglev Deployment Program

AGENCY: Federal Railroad Administration (FRA), Department of Transportation (DOT).

ACTION: Notice of Availability.

SUMMARY: Pursuant to the Council of Environmental Quality's regulations and FRA's Procedures for Considering Environmental Impacts, the FRA announces the availability of the Draft Programmatic Environmental Impact Statement (DPEIS) for the Magnetic Levitation Transportation Technology Deployment Program (Maglev Deployment Program). This DPEIS has been prepared to satisfy the requirements of the National Environmental Policy Act (NEPA). Magnetic levitation (Maglev) is an advanced transportation technology in which magnetic forces lift, propel, and guide a vehicle over a specially designed guideway. The Maglev Deployment Program was established in the Transportation Equity Act for the 21st Century (TEA-21) with the purpose of demonstrating the feasibility of maglev technology. Through a nation-wide competition, FRA selected seven states or state designated authorities, from a pool of eleven, to receive grants for pre-construction planning. The projects proposed by those seven participants are considered the action alternatives in this DPEIS. This document has been prepared to afford the public an opportunity to comment on the potential for environmental impact associated with each of the seven action-alternatives as well as for the no-action alternative.

DATES: A 45-day public review period on the DPEIS will begin on July 21, 2000 and conclude on September 5, 2000. A public information meeting is being scheduled at each of the seven project locations as described in the SUPPLEMENTARY INFORMATION section. A public hearing will be held in Washington, DC on August, 24, 2000, at 9 AM in FRA's Offices, 1120 Vermont Avenue, NW, Seventh Floor, Washington, DC.

ADDRESSES: Written comments on the DPEIS should include docket number “FRA-2000-7472” at the top of the first page and be addressed to the Docket Clerk, DOT Central Docket Management Facility, 400 Seventh Street, SW, Plaza-401, Washington, D.C. 20590-0001.

FOR FURTHER INFORMATION CONTACT: Mr. David Valenstein at the FRA, 1120 Vermont Avenue, NW, Mailstop-20, Washington, DC 20590, telephone (202) 493-6368. Please note comments on the DPEIS should be sent to the Docket Clerk. Copies of the DPEIS have been distributed to federal, state and local agencies, interested individuals, and to libraries in the vicinity of the seven Maglev projects. The document is also available on the internet at: http://www.fra.dot.gov/s/env/MagPEIS.htm. Requests for a copy of the DPEIS may be addressed to Mr. Valenstein at the address above.

SUPPLEMENTARY INFORMATION:

Background

As directed by the enabling legislation, the FRA has initiated a competition to select a project for the purpose of demonstrating the use of Maglev technology to the American public. After receiving and evaluating eleven initial applications, the Secretary of Transportation on May 24, 1999 announced financial assistance grants to seven states and authorities (California, Florida, Georgia, Louisiana, Maryland, Nevada, and Pennsylvania) for pre-construction planning for Maglev high-speed ground transportation. FRA entered into cooperative agreements with each of the selected states. These agreements required each participating state or authority to prepare and submit to the FRA a technical review of environmental considerations affecting their proposed project. The participants incorporated the results of these technical reviews into individual documents referred to as Environmental Assessments. The purpose of these technical documents was to provide the baseline environmental data to be used by FRA in the preparation of this DPEIS. FRA has analyzed and synthesized these documents in this DPEIS. After completing this environmental review, FRA will administer a selection process to pick a project for authorized construction funding. The participants are continuing to engage in planning, design, engineering, and further environmental studies. FRA will prepare a project-specific environmental impact statement for any Maglev system proposed for construction.

Participants

The action-alternatives are the seven projects proposed by the seven applicants, as follows:

• California—The initial corridor study area extends from Los Angeles International Airport through to Union Station in downtown Los Angeles and further east to Ontario International Airport and on to March Air Reserve Base, a distance of approximately 137 km (85 mi). The California Business, Transportation, and Housing Agency is the project sponsor.

• Florida—The initial study corridor includes a 32 km (20 mi) project linking Port Canaveral to the Kennedy Space Center and the Space Coast Regional Airport. The Florida Department of Transportation is the project sponsor.

• Georgia—The initial study area is a 51 km (32 mi) corridor extending from Hartsfield-Atlanta International Airport to a multi-modal station north of Atlanta. The project sponsor is the Atlanta Regional Commission. Additional information is available at: [http://www.acmaglev.com/]

• Louisiana—The initial study corridor extends from downtown New Orleans through to the New Orleans International Airport, across Lake Pontchartrain, and ends on the northern side of the lake, a distance of approximately 77 km (48 mi). The Greater New Orleans Expressway Commission is the project sponsor. Additional information is available at: [http://www.gulfcoastmaglev.com/]

• Maryland—The initial study corridor is approximately 64 km (40 mi) in length, and extends from Baltimore, MD, south to the Baltimore-Washington International Airport and then to Union Station in Washington, D.C. Additional information is available at: [http://www.bwmaglev.com/]

• Nevada—The 68 km (42 mi) initial study corridor links Primm, located on the Nevada-California state border, with downtown Las Vegas. The California-Nevada Super Speed Train Commission is the project sponsor.

• Pennsylvania—The initial study area extends from Pittsburgh International Airport to the City of Greensburg, passing through downtown Pittsburgh and Monroeville, a distance of about 72 km (45 mi). The Port Authority of Allegheny County is the project sponsor. Additional information is available at: [http://www.maglevinc.com/]

Public Information Meetings

FRA will conduct a public information meeting with each of the seven participants during August 2000. The public information meetings will include information on the Maglev Deployment Program, the DPEIS, and on the local action-alternative. The location and time of the first two meetings have been set and are provided below. The location and time of other meetings will be announced by the participant and advertised locally. FRA will post the time and location of all of the meetings on FRA's web site at http://www.fra.dot.gov/s/env/MagPEIS.htm. The public information meetings are scheduled as follows:

• Maryland, August 1, 2000, from 4:30 PM to 7:00 PM, Baltimore City Hall, Curran Room,100 North Holliday Street, Baltimore, MD 21202.

• Georgia, August 8, 2000, from 6:30 PM to 8:30 PM, Loudermilk Center, 40 Courtland Street, Atlanta, GA 30303.

• Louisiana, August 9, 2000.

• Florida, August 10, 2000.

• Pennsylvania, August 16, 2000.

• California, August 21, 2000.

• Nevada, August 22, 2000.

Public Hearing

The FRA will hold a public hearing on the DPEIS on August 24, 2000, at 9:00 AM in the FRA's offices: 1120 Vermont Avenue, N.W., Seventh Floor, Washington, D.C. The public hearing will include a presentation on the program and the DPEIS, and an opportunity for public comment.

The FRA invites interested individuals, organizations, and federal, state and local agencies to comment on the evaluated alternatives and associated social, economic, and environmental impacts related to the alternatives.

Issued in Washington, D.C. on: July 17, 2000.
Mark E. Yachmetz,
Associate Administrator for Railroad Development.

[FR Doc. 00-18603 Filed 7-21-00; 8:45 am]

BILLING CODE 4910-06-P